DEPARTMENT OF COMMERCE

National Oceanic and Atmospheric Administration

RIN 0648-XG26

Fisheries of the Exclusive Economic Zone off Alaska; Application for an Exempted Fishing Permit

AGENCY: National Marine Fisheries Service (NMFS), National Oceanic and Atmospheric Administration (NOAA), Commerce.

ACTION: Notice; receipt of an application for an exempted fishing permit.

SUMMARY: This notice announces receipt of an application for an exempted fishing permit (EFP) from the Alaska Groundfish Databank. If granted, this permit would allow the applicant to continue the development and testing of an electronic monitoring system designed to quantify the amount of halibut caught and discarded at sea. This activity is intended to promote the objectives of the Fishery Management Plan for Groundfish of the Gulf of Alaska (FMP) by potentially allowing for an alternative cost effective estimation of halibut bycatch in the rockfish fishery. Comments will be accepted at the April 1-7, 2008, North Pacific Fishery Management Council (Council) meeting in Anchorage, AK.

DATES: Interested persons may comment on the EFP application and on the environmental assessment during the Council's April 1-7, 2008, meeting in Anchorage, AK.

ADDRESSES: The Council meeting will be held at the Hilton Hotel, 500 West Third Ave., Anchorage, AK.

Copies of the EFP application and the basis for a categorical exclusion under the National Environmental Policy Act are available by writing to the Alaska Region, NMFS, P. O. Box 21668, Juneau, AK 99802, Attn: Ellen Sebastian. The application also is available from the Alaska Region, NMFS website at http://www.fakr.noaa.gov.

FOR FURTHER INFORMATION CONTACT: Jennfier Watson, 907-586-7537 or jennifer.watson@noaa.gov.

SUPPLEMENTARY INFORMATION: NMFS manages the domestic groundfish fisheries in the Gulf of Alaska (GOA) under the FMP. The Council prepared the FMP under the Magnuson-Stevens Fishery Conservation and Management Act. Regulations governing the groundfish fisheries of the BSAI appear at 50 CFR parts 600 and 679. The FMP and the implementing regulations at §§ 600.745(b) and 679.6 authorize issuance of EFPs to allow fishing that would otherwise be prohibited. Procedures for issuing EFPs are contained in the implementing regulations. NMFS received an application for an EFP from the Alaska Groundfish Databank on March 3, 2008. The purposes of the EFP project are to continue testing a video-based electronic monitoring (EM) system that is designed to quantify the amount of halibut discarded at sea; to investigate mechanisms for implementing regulations for such a system; and to investigate how EM data can be integrated into the NMFS catch accounting system.

Background

NMFS issued a final rule to implement the Central GOA rockfish pilot program on November 20, 2006 (71 FR 67210). This program established a quota based fishery organized around fishing cooperatives for vessels and processors with historic participation in the Central GOA rockfish fisheries. Participating cooperatives are given quotas of various rockfish and non-rockfish species as well as sufficient halibut prohibited species quota (PSC) to conduct those fisheries. With the exception of halibut PSC, all quota harvested by catcher vessels must be landed at a participating processor where quota accounting takes place. Halibut PSC must be discarded at-sea and halibut catch is estimated by at-sea observers. In order to credibly account for halibut discard, and to ensure that the discard of other quota species does not occur, NMFS required that observer coverage be increased from 30 to 100% when the program was implemented. Industry is concerned that costs associated with full observer coverage are high relative to the increased revenue of the program. Further, NMFS believes that wherever possible quota catch should be accounted for based on a full census of catch. This is not possible for halibut PSC under the current system. To address these concerns Alaska Groundfish Databank developed, in conjunction with NMFS staff, an alternative approach to manage shoreside rockfish fisheries that could include the use of EM to replace a portion of the required observer coverage.

The EM system is designed to ensure that nothing other than halibut is discarded at sea, and to quantify the amount of halibut discarded. Cameras designed to give an overview of the entire deck are installed to ensure that discard only occurs in a single specified location. Other cameras, focused on the specified location, photograph each halibut as it is discarded. All data from the cameras, as well as location information from an onboard GPS system, is recorded to disk for review at the end of each trip. Following completion of each trip the data are analyzed to ensure that unauthorized discard did not take place and to estimate the length of each halibut discarded. In 2007, NMFS issued an EFP to conduct research into the viability of this system on a single vessel. While a final report on this project has not been completed, a preliminary review of the data would indicate that the system is effective at accomplishing these goals. This EFP would continue that research on a larger number of vessels fishing under non-experimental conditions and would focus on issues associated with implementation rather than on a technical or scientific assessment of the EM system itself.

To continue testing the EM system, exemptions would be necessary from regulations for observer coverage. Among the goals of this project are to determine the extent to which crew behavior changes when an observer is present and to attempt to mimic a regulatory environment in which a portion of the observer coverage is replaced by an EM system. In order to investigate these issues in a cost effective manner that ensures participation in the EFP fishery, it will be necessary to reduce observer coverage levels for vessels participating in the project to the pre-rockfish pilot program levels of 30%. Because participating vessels will be monitored electronically, such a reduction is not expected to change actual fishing behavior, trip duration, or the amount of fish harvested.

The activities proposed to be conducted under the EFP are not expected to have a significant impact on the human environment as detailed in the categorical exclusion issued for this action (see ADDRESSES).

In accordance with § 679.6, NMFS has determined that the proposal warrants further consideration and has forwarded the application to the Council to initiate consultation. The Council will consider the EFP application during its April 1-7, 2008, meeting, which will be held at the Hilton Hotel in Anchorage, Alaska. The applicant has been invited to appear in support of the application.

Public Comments

Interested persons may comment on the application at the April 2008 Council meeting during public testimony. Information regarding the meeting is available at the Council's website at http://www.fakr.noaa.gov/npfmc/council.htm. Copies of the application and categorical exclusion are available for review from NMFS (see ADDRESSES).

Authority: 16 U.S.C. 1801 et seq.

Dated: March 12, 2008.
Emily H. Menashes,
Acting Director, Office of Sustainable Fisheries, National Marine Fisheries Service.

[FR Doc. E8-5304 Filed 3-14-08; 8:45 am]

BILLING CODE 3510-22-S